DEPARTMENT OF HOMELAND SECURITY

Privacy Office; Published Privacy Impact Assessments on the Web

AGENCY: Privacy Office, Office of the Secretary, Department of Homeland Security.

ACTION: Notice of Publication of Privacy Impact Assessments.

SUMMARY: The Privacy Office of the Department of Homeland Security is making available four Privacy Impact Assessments on various programs and systems in the Department. These assessments were approved and published on the Privacy Office's Web site between December 1, 2006 and December 31, 2006.

DATES: The Privacy Impact Assessments will be available on the DHS Web site until April 2, 2007, after which they may be obtained by contacting the DHS Privacy Office (contact information below).

FOR FURTHER INFORMATION CONTACT: Hugo Teufel III, Chief Privacy Officer, Department of Homeland Security, Washington, DC 20528; by telephone (571) 227-3813, facsimile (866) 466-5370, or e-mail: pia@dhs.gov.

SUPPLEMENTARY INFORMATION: Between December 1, 2006 and December 31, 2006, the Chief Privacy Officer of the Department of Homeland Security (DHS) approved and published four Privacy Impact Assessments (PIAs) on the DHS Privacy Office Web site, http://www.dhs.gov/privacy, under the link for “Privacy Impact Assessments.” Below is a short summary of each of those systems, indicating the DHS component responsible for the system, and the date on which the PIA was approved. Additional information can be found on the Web site or by contacting the Privacy Office.

1. System: DisasterHelp.gov.

Component: Science and Technology.

Date of approval: December 19, 2006.

The DisasterHelp.Gov (DHelp) Web site or Web portal is operated by the Science and Technology Directorate of the Department of Homeland Security. It is intended to assist political and civil service leadership, emergency managers, homeland security advisors, and first responders in the execution of their disaster management responsibilities. The information on this Web site will be used to enhance disaster management on an interagency and intergovernmental basis by helping users find information and services. The types of personally identifiable information used will include contact information for these individuals. The collection of this personally identifiable information is the reason for this privacy impact assessment.

2. System: Alien Flight Student Program (Amended).

Component: Transportation Security Administration.

Date of approval: December 22, 2006.

The Transportation Security Administration (TSA) will collect personal information about flight-training candidates to conduct the security threat assessments on alien flight students required by the Aviation and Transportation Security Act and section 612 of Vision 100—Century of Aviation Reauthorization Act. For pilots seeking recurrent training, the Alien Flight Student Program will verify eligibility for such training. TSA is amending the PIA originally published in June 2004 to reflect certain updates after periodic review, including its use of commercial data for identity verification purposes, and the promulgation of an applicable record retention schedule.

3. System: Threat Assessment for Airport Badge and Credential Holders.

Component: Transportation Security Administration.

Date of approval: December 20, 2006.

TSA is amending the PIA for the Security Threat Assessment for Airport Badge and Credential Holders to reflect an expansion of the covered population. Recently amended airport security directives now require that each individual to whom an airport issues an identification badge or credentials undergo a security threat assessment regardless of the level of unescorted access permitted the individual. Name-based security threat assessments will be performed on all individuals seeking or holding airport identification badges or credentials. Fingerprint-based criminal history checks, in addition to the name-based security threat assessments, will continue to be required for those individuals seeking access to the Security Identification Area or Sterile Area. TSA is amending this PIA to reflect the amended requirements.

4. System: Transportation Worker Identification Credential Program Final Rule.

Component: Transportation Security Administration.

Date of approval: December 29, 2006.

TSA is publishing a joint Final Rule with the United States Coast Guard to implement the Transportation Worker Identification Credential (TWIC) program to provide a biometric credential that can be used to confirm the identity of workers in the national transportation system. For each person subject to the program, TSA will conduct a security threat assessment before issuing the credential. TSA will collect identifying information, supporting documentation, a digital photograph, and fingerprints, as more fully set forth in section 1.1 of the PIA. The PIA reflects the TWIC Program as set out in the Final Rule and follows on the PIA for the TWIC Prototype, which was published at http://www.dhs.gov on November 5, 2004, and the PIA for the Notice of Proposed Rulemaking (NPRM), which was published at http://www.dhs.gov on May 9, 2006. The updated PIA reflects changes made to the TWIC program in response to public comment on the NPRM and lessons learned from the TWIC Prototype.

Dated: January 24, 2007.
Hugo Teufel III,
Chief Privacy Officer.

[FR Doc. 07-388 Filed 1-29-07; 8:45 am]

BILLING CODE 4410-10-P